Proclamation 9854 of March 29, 2019

National Child Abuse Prevention Month, 2019

By the President of the United States of America

A Proclamation

Every child deserves the security of a stable, loving, and nurturing home. During National Child Abuse Prevention Month, we recognize the importance of all Americans working together each day in defense of the most vulnerable among us—our children. We must make every effort to ensure that they are treated with dignity and respect, and have the opportunity to pursue their dreams in secure and healthy environments.

The relationships that children have with parents, family members, teachers, and other caregivers profoundly shape their lives. When they are subjected to abuse and neglect, they are exposed to toxic stress that can disrupt early brain development and increase the risk of depression, suicide, substance abuse, developmental disabilities, future violence, juvenile delinquency, and other unhealthy behaviors. These and other devastating effects of child abuse can last a lifetime, and can even affect future generations.

As a Nation, we must do everything within our power to stop child abuse and neglect before they occur. The best defense against these menaces is a strong family led by loving and caring parents. My Administration has a broad vision for strengthening families, which includes raising awareness, focusing on prevention, and working to help parents and children thrive. For this reason, I signed into law the Family First Prevention Services Act—an important step in helping move child welfare to a more prevention-based system. This legislation increases the support available to at-risk families through services such as mental health and substance abuse treatment and parenting skill-based programs, so that more children may remain safely in their homes and communities.

We cannot lose sight of the importance of the entire community in preventing child abuse and neglect. It is critically important for our children to have parents who care for their physical, intellectual, and emotional needs. But we also must acknowledge the friends, neighbors, educators, and faith leaders who help in promoting the well-being of children. We are especially grateful for foster and adoptive parents who graciously open their homes and lives to children in need of love and support. And we extend our deepest respect and gratitude to the professionals, volunteers, and organizations who work tirelessly to protect at-risk children and to care for those who have tragically experienced the traumas of abuse or neglect.

We pray for all those who have suffered from the terrors of child abuse and neglect and who continue to suffer from its devastating psychological and physical impacts. We honor the courageous survivors of abuse and neglect and hold in our hearts those cruelly taken from us. We strengthen our resolve to eradicate abuse and neglect from our homes and communities, and we pledge our unwavering commitment to preserving the innocence and safety of our Nation's children. Let us all strive each day to build a brighter future for them and for our country.

NOW, THEREFORE, I, DONALD J. TRUMP, President of the United States of America, by virtue of the authority vested in me by the Constitution and the laws of the United States, do hereby proclaim April 2019 as National Child Abuse Prevention Month. I call upon all Americans to invest in the lives of our Nation's children, to be aware of their safety and well-being, and to support efforts that promote their psychological, physical, and emotional development.

IN WITNESS WHEREOF, I have hereunto set my hand this twenty-ninth day of March, in the year of our Lord two thousand nineteen, and of the Independence of the United States of America the two hundred and forty-third.

[FR Doc. 2019-06807

Filed 4-3-19; 11:15 am]

Billing code 3295-F9-P